DEPARTMENT OF THE INTERIOR

National Park Service

Notice of Intent to Repatriate Cultural Items: New York State Museum, Albany, NY

AGENCY: National Park Service, Interior.

ACTION: Notice.

Notice is here given in accordance with the Native American Graves Protection and Repatriation Act (NAGPRA), 25 U.S.C. 3005, of the intent to repatriate cultural items in the possession of the New York State Museum, Albany, NY, that meet the definition of “unassociated funerary objects” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

The two cultural items are one small copper kettle and one silver wristband. The silver wristband bears the maker's mark “IS.”

In 1956, the New York State Museum purchased the kettle and wristband from the Logan Museum of Anthropology, Beloit College, WI. The cultural items were part of a larger collection made by Albert Green Heath who acquired the kettle and wristband from an individual named Lowell Lamkin between 1910 and 1916.

The Heath collection records indicate the kettle and wristband were found in a grave or graves in “Emmet County, Michigan.” The New York State Museum is not in possession of the human remains associated with the items. Therefore, based on museum records, the kettle and wristband are reasonably believed to be unassociated funerary objects. The style of the kettle and wristband date to the post-Contact period and are typical of metal trade items from the mid to late 18th century. Heath collection records identify the tribal identification of the items as Ottawa. Historical and traditional evidence indicates Ottawa people occupied Emmet County throughout the 18th century. The Ottawa people are also called Odawa. Descendants of the Odawa in Emmet County are members of the Grand Traverse Band of Ottawa and Chippewa Indians, Michigan, and Little Traverse Bay Bands of Odawa Indians, Michigan.

Officials of the New York State Museum have determined that, pursuant to 25 U.S.C. 3001 (3)(B), the two cultural items described above are reasonably believed to have been placed with or near individual human remains at the time of death or later as part of the death rite or ceremony and are believed, by a preponderance of the evidence, to have been removed from a specific burial site of a Native American individual. Officials of the New York State Museum also have determined that, pursuant to 25 U.S.C. 3001 (2), there is a relationship of shared group identity that can be reasonably traced between the unassociated funerary objects and Grand Traverse Band of Ottawa and Chippewa Indians, Michigan, and Little Traverse Bay Bands of Odawa Indians, Michigan.

Representatives of any other Indian tribe that believes itself to be culturally affiliated with the unassociated funerary objects should contact Lisa Anderson, NAGPRA Coordinator, New York State Museum, 3122 Cultural Education Center, Albany, NY 12230, telephone (518) 486-2020, before September 29, 2008. Repatriation of the unassociated funerary objects to the Little Traverse Bay Bands of Odawa Indians, Michigan, may proceed after that date if no additional claimants come forward.

New York State Museum is responsible for notifying the Grand Traverse Band of Ottawa and Chippewa Indians, Michigan, and Little Traverse Bay Bands of Odawa Indians, Michigan that this notice has been published.

Dated: August 4, 2008.
Sherry Hutt,
Manager, National NAGPRA Program.

[FR Doc. E8-20103 Filed 8-28-08; 8:45 am]

BILLING CODE 4312-50-S